DEPARTMENT OF DEFENSE

Office of the Secretary

[Docket ID DOD-2016-OS-0095]

Privacy Act of 1974; System of Records

AGENCY: Office of the Secretary of Defense, DoD.

ACTION: Notice to alter a System of Records.

SUMMARY: Pursuant to the Privacy Act of 1974, 5 U.S.C. 552a, and Office of Management and Budget (OMB) Circular No. A-130, notice is hereby given that the Office of the Secretary of Defense proposes to alter a system of records, DHRA 12 DoD, entitled “Defense Injury and Unemployment Compensation System,” last published at 79 FR 19872, April 10, 2014. This system of records exists to administer Federal Employees Compensation Act claims in which individuals seek monetary, medical, and similar benefits for injuries or deaths sustained while performing assigned duties. Maintaining this record is necessary to provide counsel and assistance to employees regarding their entitlements and to conduct audits of such entitlements with concerned State Employment Security Agencies.

This update reflects administrative changes that in sum warrant an alteration to the systems of records notice. Information collected on the individual has been reduced by eliminating the Occupational Safety and Health Act initial notification report from the record; accordingly, the reference has been removed from the categories of records and the purpose sections of the notice. The source authority, 5 U.S.C. 85, Unemployment Compensation, has been included as the DoD policy is derived from this statute. Further, the applicable DoD Routine Uses have been incorporated in the notice to provide clarity for the public. There are also modifications to system identifier, system name, system location, retention and disposal, system manager(s) and address, and notification procedure.

DATES: Comments will be accepted on or before November 7, 2016. This proposed action will be effective on the date following the end of the comment period unless comments are received which result in a contrary determination.

ADDRESSES: You may submit comments, identified by docket number and title, by any of the following methods:

* Federal Rulemaking Portal: http://www.regulations.gov. Follow the instructions for submitting comments.

* Mail: Department of Defense, Office of the Deputy Chief Management Officer, Directorate of Oversight and Compliance, Regulatory and Audit Matters Office, 4800 Mark Center Drive, Mailbox #24, Alexandria, VA 22350-1700.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mrs. Luz D. Ortiz, Chief, Records, Privacy and Declassification Division (RPD2), 1155 Defense Pentagon, Washington, DC 20301-1155, or by phone at (571) 372-0478.

SUPPLEMENTARY INFORMATION: The Office of the Secretary of Defense notices for systems of records subject to the Privacy Act of 1974 (5 U.S.C. 552a), as amended, have been published in the Federal Register and are available from the address in FOR FURTHER INFORMATION CONTACT or from the Defense Privacy, Civil Liberties, and Transparency Division Web site at http://dpcld.defense.gov/.

The proposed systems reports, as required by 5 U.S.C. 552a(r) of the Privacy Act, as amended, were submitted on September 20, 2016, to the House Committee on Oversight and Government Reform, the Senate Committee on Homeland Security and Governmental Affairs, and the Office of Management and Budget (OMB) pursuant to paragraph 4 of Appendix I to OMB Circular No. A-130, “Federal Agency Responsibilities for Maintaining Records About Individuals,” revised November 28, 2000 (December 12, 2000 65 FR 77677).

Dated: October 4, 2016.
Aaron Siegel,
Alternate OSD Federal Register Liaison Officer, Department of Defense.

DHRA 12 DoD

System Name:

Defense Injury and Unemployment Compensation System (April 10, 2014, 79 FR 19872).

Changes:

System ID:

Delete entry and replace with “DMDC 27 DoD.”

System Name:

Delete entry and replace with “Defense Injury and Unemployment Compensation System (DIUCS).”

System location:

Delete entry and replace with “Defense Manpower Data Center, Denver Data Center, 1401 Del Norte Street, Denver, CO 80221-7143.”

* * * * *

Categories of records in the system:

Delete entry and replace with “Name, Social Security Number (SSN), claim number, date of birth, gender, home phone number, home address; component, occupation, assignment and duty location information; wages, benefits, entitlement data necessary to injury and unemployment claim management; Department of Labor/Office of Workers Compensation Programs (DOL/OWCP) claim status; authorization for medical care; related DoD personnel records such as, timekeeping and payroll data, reports descriptive of the incident and extent of injury for use in DOL/OWCP adjudication of the claim; reports related to payment of benefits through SESA offices, State where the claim for unemployment compensation was filed and approximate date filed with the SESA.”

Authority for maintenance of the system:

Delete entry and replace with “10 U.S.C. 136, Under Secretary of Defense for Personnel and Readiness; 5 U.S.C. 81, Compensation for Work Injuries; 5 U.S.C. 85, Unemployment Compensation; DoD Instruction (DoDI) 1400.25-V810, DoD Civilian Personnel Management System: Injury Compensation; DoDI 1400.25-V850, DoD Civilian Personnel Management System: Unemployment Compensation (UC); and E.O. 9397 (SSN), as amended.”

Purpose(s):

Delete entry and replace with “To manage FECA claims seeking monetary, medical, and similar benefits for injuries or deaths sustained while performing assigned duties.

Records are maintained for the purpose of auditing the State itemized listings of unemployment compensation charges, identifying erroneous charges and requesting credits from the SESAs, and tracking the charges to ensure that credits are received from the appropriate State jurisdictions.”

Routine uses of records maintained in the system, including categories of users and the purposes of such uses:

Delete entry and replace with “In addition to those disclosures generally permitted under 5 U.S.C. 552a(b) of the Privacy Act of 1974, as amended, the records contained herein may specifically be disclosed outside the DoD as a routine use pursuant to 5 U.S.C. 552a(b)(3) as follows:

To the Office of Personnel Management, Department of Labor and Social Security Administration for the purpose of ensuring appropriate payment of benefits.

Law Enforcement Routine Use: If a system of records maintained by a DoD Component to carry out its functions indicates a violation or potential violation of law, whether civil, criminal, or regulatory in nature, and whether arising by general statute or by regulation, rule, or order issued pursuant thereto, the relevant records in the system of records may be referred, as a routine use, to the agency concerned, whether federal, state, local, or foreign, charged with the responsibility of investigating or prosecuting such violation or charged with enforcing or implementing the statute, rule, regulation, or order issued pursuant thereto.

Disclosure When Requesting Information Routine Use: A record from a system of records maintained by a DoD Component may be disclosed as a routine use to a federal, state, or local agency maintaining civil, criminal, or other relevant enforcement information or other pertinent information, such as current licenses, if necessary to obtain information relevant to a DoD Component decision concerning the hiring or retention of an employee, the issuance of a security clearance, the letting of a contract, or the issuance of a license, grant, or other benefit.

Disclosure of Requested Information Routine Use: A record from a system of records maintained by a DoD Component may be disclosed to a federal agency, in response to its request, in connection with the hiring or retention of an employee, the issuance of a security clearance, the reporting of an investigation of an employee, the letting of a contract, or the issuance of a license, grant, or other benefit by the requesting agency, to the extent that the information is relevant and necessary to the requesting agency's decision on the matter.

Congressional Inquiries Disclosure Routine Use: Disclosure from a system of records maintained by a DoD Component may be made to a congressional office from the record of an individual in response to an inquiry from the congressional office made at the request of that individual.

Disclosure to the Office of Personnel Management Routine Use: A record from a system of records subject to the Privacy Act and maintained by a DoD Component may be disclosed to the Office of Personnel Management (OPM) concerning information on pay and leave, benefits, retirement deduction, and any other information necessary for the OPM to carry out its legally authorized government-wide personnel management functions and studies.

Disclosure to the Department of Justice for Litigation Routine Use: A record from a system of records maintained by a DoD Component may be disclosed as a routine use to any component of the Department of Justice for the purpose of representing the Department of Defense, or any officer, employee or member of the Department in pending or potential litigation to which the record is pertinent.

Disclosure of Information to the National Archives and Records Administration Routine Use: A record from a system of records maintained by a DoD Component may be disclosed as a routine use to the National Archives and Records Administration for the purpose of records management inspections conducted under authority of 44 U.S.C. 2904 and 2906.

Data Breach Remediation Purposes Routine Use: A record from a system of records maintained by a Component may be disclosed to appropriate agencies, entities, and persons when (1) The Component suspects or has confirmed that the security or confidentiality of the information in the system of records has been compromised; (2) the Component has determined that as a result of the suspected or confirmed compromise there is a risk of harm to economic or property interests, identity theft or fraud, or harm to the security or integrity of this system or other systems or programs (whether maintained by the Component or another agency or entity) that rely upon the compromised information; and (3) the disclosure made to such agencies, entities, and persons is reasonably necessary to assist in connection with the Components efforts to respond to the suspected or confirmed compromise and prevent, minimize, or remedy such harm.”

* * * * *

Retention and disposal:

Delete entry and replace with “Destroy closed claims 10 years after the case is closed by the Department of Labor and all related activity has ceased.”

System manager(s) and address:

Delete entry and replace with “DIUCS Program Manager, Defense Manpower Data Center, Enterprise Human Resources Information Systems Directorate, 4800 Mark Center Drive, Alexandria, VA 22350-4000.

Functional Program Manager, Defense Civilian Personnel Advisory Service, Human Resources Operational Programs and Advisory Service, 4800 Mark Center Drive, Alexandria, VA 22350-1100.”

Notification procedure:

Delete entry and replace with “Individuals seeking to determine whether information about themselves relating to a workers compensation claim is contained in this system should address written inquiries to their designated Injury Compensation Program Administrator (ICPA), or contact the Defense Civilian Personnel Advisory Service, Human Resources Operational Programs and Advisory Service, 4800 Mark Center Drive, Alexandria, VA 22350-1100.

Signed, written requests regarding Unemployment Compensation should include the individual's full name, SSN, address, state where the claim for unemployment compensation was filed, and approximate date filed with the SESA.

Individuals seeking to determine whether information about themselves relating to SESA is contained in this system should address written inquiries to their designated Unemployment Compensation Program Administrator (UCPA), or contact the Defense Civilian Personnel Advisory Service, Human Resources Operational Programs and Advisory Service, 4800 Mark Center Drive, Alexandria, VA 22350-1100.

Signed, written requests regarding SESA should include the individual's full name, SSN, address, state where the claim for unemployment compensation was filed, and approximate date filed with the SESA.

In addition, the requester must provide a notarized statement or an unsworn declaration made in accordance with 28 U.S.C. 1746, in the following format:

If executed outside the United States: `I declare (or certify, verify, or state) under penalty of perjury under the laws of the United States of America that the foregoing is true and correct. Executed on (date). (Signature).'

If executed within the United States, its territories, possessions, or commonwealths: `I declare (or certify, verify, or state) under penalty of perjury that the foregoing is true and correct. Executed on (date). (Signature).' ”

Record Access Procedures:

Delete entry and replace with “Individuals seeking access to information about themselves contained in this system of records should address written inquiries to the OSD/Joint Staff, Freedom of Information Act Requester Service Center, Office of Freedom of Information, 1155 Defense Pentagon, Washington, DC 20301-1155.

Signed, written requests should include the individual's full name, SSN, address, and the name and number of this system of records notice. If the request involves unemployment compensation, it should include the State where the claim for unemployment compensation was filed and approximate date filed with the SESA.

In addition, the requester must provide a notarized statement or an unsworn declaration made in accordance with 28 U.S.C. 1746, in the following format:

If executed outside the United States: `I declare (or certify, verify, or state) under penalty of perjury under the laws of the United States of America that the foregoing is true and correct. Executed on (date). (Signature).'

If executed within the United States, its territories, possessions, or commonwealths: `I declare (or certify, verify, or state) under penalty of perjury that the foregoing is true and correct. Executed on (date). (Signature).' ”

* * * * *

[FR Doc. 2016-24369 Filed 10-6-16; 8:45 am]

BILLING CODE 5001-06-P